Proclamation 10622 of September 8, 2023

Patriot Day and National Day of Service and Remembrance, 2023

By the President of the United States of America

A Proclamation

Today we remember all the heroes who were forged in the hours, days, and years that followed that terrible morning of September 11, 2001—ordinary Americans who, amidst the terror, smoke, and flames, demonstrated extraordinary courage and selflessness. Together, their bravery helped prove to our Nation and the world that what those terrorists most hoped to wound could never be broken: the character of our Nation.

In the crucible that was September 11th, we saw just how deep that character goes. We saw it in the civilians, service members, and first responders who leapt into action that day, running into the searing flames and crumbling buildings—risking and losing their own lives to save others. We saw it in the incredible courage and resolve of the passengers on board Flight 93, who refused to let their plane be used as a weapon against more innocent Americans. We saw it in the police officers and firefighters who returned to the twisted steel and broken concrete slabs of Ground Zero and the Pentagon for months—breathing in toxins and ash that would damage their own health but nonetheless refusing to stop searching through the destruction. And we saw it in the millions of Americans across our country who responded to the September 11th attacks by signing up to defend our Constitution and join the greatest fighting force in the history of the world.

In the years since September 11th, hundreds of thousands of American troops have served—and sacrificed—around the world to deny terrorists safe haven and protect the American people. The First Lady and I hold in our hearts all those whose loved ones gave their last full measure of devotion in this fight. We owe them—and all our veterans and Gold Star Families as well as their survivors, caregivers, and loved ones—a debt of gratitude. While we can never fully repay that debt, we will never fail to meet our sacred obligation: to prepare and equip all those we send into harm's way and care for them and their families when they return.

In honor of all the lives we lost 22 years ago—and in honor of all the heroes who have given their whole souls to the cause of this Nation every moment since—may today not only be observed with solemn remembrance but also with renewal and resolve. And I invite all Americans to observe this day with service; you can find opportunities to volunteer in your community by visiting americorps.gov/911-day. Together, may we continue to demonstrate that the rights and freedoms that those terrorists sought to destroy on September 11, 2001, remain unwavering—strengthened by generations of Americans who have dared all and risked all to defend, protect, and preserve our democracy.

By a joint resolution approved December 18, 2001 (Public Law 107-89), the Congress has designated September 11 of each year as “Patriot Day,” and by Public Law 111-13, approved April 21, 2009, the Congress has requested the observance of September 11 as an annually recognized “National Day of Service and Remembrance.”

NOW, THEREFORE, I, JOSEPH R. BIDEN JR., President of the United States of America, do hereby proclaim September 11, 2023, as Patriot Day and National Day of Service and Remembrance. I call upon all departments, agencies, and instrumentalities of the United States to display the flag of the United States at half-staff on Patriot Day and National Day of Service and Remembrance in honor of the individuals who lost their lives on September 11, 2001. I invite the Governors of the United States and its Territories and interested organizations and individuals to join in this observance. I call upon the people of the United States to participate in community service in honor of those our Nation lost, to observe this day with appropriate ceremonies and activities, including remembrance services, and to observe a moment of silence beginning at 8:46 a.m. eastern daylight time to honor the innocent victims who perished as a result of the terrorist attacks on September 11, 2001.

IN WITNESS WHEREOF, I have hereunto set my hand this eighth day of September, in the year of our Lord two thousand twenty-three, and of the Independence of the United States of America the two hundred and forty-eighth.

[FR Doc. 2023-19924

Filed 9-12-23; 8:45 am]

Billing code 3395-F3-P